DEPARTMENT OF COMMERCE

Submission For OMB Review; Comment Request

DOC has submitted to the Office of Management and Budget (OMB) for clearance, the following proposal for an extension of a currently approved collection of information under the provisions of the Paperwork Reduction Act (44 U.S.C. chapter 35).

Agency: Bureau of Economic Analysis.

Title: (1) Survey of Ocean Freight Revenues and Foreign Expenses of United States Carriers (BE-30).

(2) Survey of U.S. Airline Operators' Foreign Revenues and Expenses (BE-37).

Form Number(s): BE-30/BE-37.

Agency Approval Number: 0608-0011.

Type of Request: Extension of a currently approved collection.

Burden: 780 hours (BE-30); 304 hours (BE-37).

Number of Respondents: 39 (BE-30); 19 (BE-37).

Average Hours Per Response: 5 hours (BE-30); 4 hours (BE-37).

Needs and Uses: The Bureau of Economic Analysis is responsible for the compilation of the U.S. balance of payments accounts. The information collected in these surveys is an integral part of the “transportation” portion of the U.S. balance of payments accounts. The balance of payments accounts, which are published quarterly in the Bureau's monthly publication, the Survey of Current Business, are one of the major statistical products of BEA. The accounts provide a statistical summary of U.S. international transactions and are used by government and private organizations for national and international policy formulation, and analytical studies. The information collected is also used for compiling the U.S. national income and product accounts, and for reporting to international organizations such as the International Monetary Fund. Without the information collected in these surveys, quarterly data needed for estimating an integral component of the transportation account would be unavailable. No other Government agency collects comprehensive quarterly data on U.S. ocean carriers' freight revenues and foreign expenses or U.S. airline operators' foreign revenues and expenses.

These surveys request information from U.S. ocean and air carriers engaged in the international transportation of goods and/or passengers. Information is collected on a quarterly basis from U.S. ocean and air carriers with total annual covered revenues or total annual covered foreign expenses of $500,000 or more. U.S. ocean and air carriers with total annual covered revenues and total annual covered foreign expenses below $500,000 are exempt from reporting.

Affected Public: U.S. ocean and air carriers.

Frequency: Quarterly.

Respondent's Obligation: Mandatory.

Legal Authority: The International Investment and Trade in Services Survey Act, 22 U.S.C. 3101-3108.

OMB Desk Officer: Paul Bugg, (202) 395-3093.

Copies of the above extension of a currently approved collection can be obtained by calling or writing Diane Hynek, DOC Forms Clearance Officer, (202) 482-0266, Department of Commerce, Room 6625, 14th and Constitution Avenue, NW., Washington, DC 20230.

Written comments and recommendations in response to this extension of a currently approved collection should be sent within 30 days of publication of this notice to Paul Bugg, OMB Desk Officer, Room 10201, New Executive Office Building, Washington, DC 20503; fax: 202-395-7245; e-mail: pbugg@omb.eop.gov.

Dated: December 22, 2003.
Madeleine Clayton,
Management Analyst, Office of Chief Information Officer.

[FR Doc. 03-31999 Filed 12-29-03; 8:45 am]

BILLING CODE 3510-06-P